DEPARTMENT OF THE INTERIOR

Bureau of Indian Affairs

Alabama-Coushatta Tribe of Texas Petition for Tribal Reassumption of Jurisdiction over Child Custody Proceedings

AGENCY: Bureau of Indian Affairs, Interior.

ACTION: Notice.

SUMMARY: This is a notice that the Department of the Interior has received a petition from the Alabama-Coushatta Tribe of Texas for the tribal reassumption of jurisdiction over Indian child custody proceedings. The petition is under review by, and may be inspected at, the address listed in the ADDRESSES section.

ADDRESSES: The Bureau of Indian Affairs, Office of Indian Services, Division of Human Services, 1849 C St., NW., Room MIB-4513, Washington, DC 20240.

FOR FURTHER INFORMATION CONTACT: Rochelle Apodaca (505) 563-3524.

SUPPLEMENTARY INFORMATION: The authority for the Assistant Secretary—Indian Affairs to publish this notice is contained in 25 CFR 13.14(a) and 209 DM 8. The Indian Child Welfare Act of 1978 (Pub. L. 95-608) provides, subject to certain specified conditions, that Indian tribes may petition the Secretary of the Interior for reassumption of jurisdiction over Indian child custody proceedings. This notice acknowledges receipt of the petition of Alabama-Coushatta Tribe of Texas for the tribal reassumption of jurisdiction.

Dated: May 10, 2008
Carl J. Artman,
Assistant Secretary—Indian Affairs.

[FR Doc. E8-12682 Filed 6-5-08; 8:45 am]

BILLING CODE 4310-4J-P